COMMITTEE FOR THE IMPLEMENTATION OF TEXTILE AGREEMENTS

Determination under the Textile and Apparel Commercial Availability Provision of the Dominican Republic-Central America-United States Free Trade Agreement (CAFTA-DR Agreement)

October 21, 2008.

AGENCY: The Committee for the Implementation of Textile Agreements

ACTION: Determination to add a product in unrestricted quantities to Annex 3.25 of the CAFTA-DR Agreement.

EFFECTIVE DATE: October 24, 2008.

SUMMARY: The Committee for the Implementation of Textile Agreements (CITA) has determined that certain greige corduroy fabrics, as specified below, are not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482 3651.

FOR FURTHER INFORMATION ON-LINE: http://web.ita.doc.gov/tacgi/CaftaReqTrack.nsf.Reference number: 85.2008.09.24.Fabric.AM&SforSwift Galey

SUPPLEMENTARYINFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On September 15, 2008, CITA published modified procedures it would follow in considering requests to modify the Annex 3.25 list (73 FR 53200) (“procedures”).

On September 24, 2008, the Chairman of CITA received a Request for a commercial availability determination (“Request”) under the CAFTA-DR from AM&S Trade Services, LLC, on behalf of Swift Galey, for certain greige corduroy fabrics. On September 26, 2008, in accordance with CITA's procedures, CITA notified interested parties of the Request and posted the Request on the dedicated website for CAFTA-DR Commercial Availability. In its notification, CITA advised that any Response with an Offer to Supply (“Response”) must be submitted by October 8, 2008, and any Rebuttal be submitted by October 15, 2008. No interested entity submitted a Response advising CITA of its objection to the Request and its ability to supply the subject product.

In accordance with section 203(o)(4)(C) of the CAFTA-DR Act, and CITA's procedures, as no interested entity submitted a Response objecting to the Request and demonstrating its ability to supply the subject product, CITA has determined to add the specified fabric to the list in Annex 3.25 of the CAFTA-DR Agreement.

The subject fabric has been added to the list in Annex 3.25 of the CAFTA-DR Agreement in unrestricted quantities. A revised list has been posted on the dedicated website for CAFTA-DR Commercial Availability.

Specifications: Certain Greige Corduroy Fabric
HTS: 5801.22.1000, 5801.22.9000
Wales:
Metric: 2.3 to 9.7 wales per cm
English: 5.8 to 24.7 wales per inch
Fiber Content: Greater than 50 percent by weight of cotton.
Weight: 146 to 332 g/sq m.
Warp Ends: 14.2 to 26 ends per cm.
Filling Picks: 39.4 to 55.1 per cm.
Warp Yarn Counts:
Metric: 16.1/1 to 38.1/1
English: 9.5/1 Ne to 22.5/1 Ne
Filling Yarn Counts:
Metric: 16.1/1 to 67.7/1
English: 9.5/1 Ne to 40/1 Ne
Width: 132 to 190 cm
Finish: Greige, cut, not desized, and unbleached.

Janet E. Heinzen,
Acting Chairman, Committee for the Implementation of Textile Agreements.

[FR Doc. E8-25441 Filed 10-23-08; 8:45 am]

BILLING CODE 3510-DS